DEPARTMENT OF TRANSPORTATION

National Highway Traffic Safety Administration

[Docket No. NHTSA-2016-0004; Notice 1]

Aston Martin Lagonda Limited, Receipt of Petition for Decision of Inconsequential Noncompliance

AGENCY: National Highway Traffic Safety Administration (NHTSA), Department of Transportation (DOT).

ACTION: Receipt of petition.

SUMMARY: Aston Martin Lagonda Limited (AML), has determined that certain model year (MY) 2009-2015 Aston Martin DB9 two-door and four-door passenger cars do not fully comply with paragraph S4.3 of Federal Motor Vehicle Safety Standard (FMVSS) No. 206, Door locks and door retention components. Aston Martin Lagonda of North America, Inc., filed a report dated December 16, 2015, pursuant to 49 CFR part 573, Defect and Noncompliance Responsibility and Reports for AML. AML then petitioned NHTSA under 49 CFR part 556 requesting a decision that the subject noncompliance is inconsequential to motor vehicle safety.

DATES: The closing date for comments on the petition is March 18, 2016.

ADDRESSES: Interested persons are invited to submit written data, views, and arguments on this petition. Comments must refer to the docket and notice number cited in the title of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to http://www.regulations.gov, including any personal information provided.

The petition, supporting materials, and all comments received before the close of business on the closing date indicated above will be filed in the docket and will be considered. All comments and supporting materials received after the closing date will also be filed and will be considered to the extent possible.

When the petition is granted or denied, notice of the decision will also be published in the Federal Register pursuant to the authority indicated at the end of this notice.

All documents submitted to the docket may be viewed by anyone at the address and times given above. The documents may also be viewed on the Internet at http://www.regulations.gov by following the online instructions for accessing the dockets. The docket ID number for this petition is shown at the heading of this notice.

DOT's complete Privacy Act Statement is available for review in the Federal Register published on April 11, 2000, (65 FR 19477-78).

SUPPLEMENTARY INFORMATION: I. Overview: Pursuant to 49 U.S.C. 30118(d) and 30120(h) (see implementing rule at 49 CFR part 556), AML submitted a petition for an exemption from the notification and remedy requirements of 49 U.S.C. Chapter 301 on the basis that this noncompliance is inconsequential to motor vehicle safety.

This notice of receipt of AML's petition is published under 49 U.S.C. 30118 and 30120 and does not represent any agency decision or other exercise of judgment concerning the merits of the petition.

II. Vehicles Involved: Affected are approximately 5,516 MY 2009-2015 Aston Martin DB9 two-door and four-door passenger cars that were manufactured between September 1, 2009 and December 9, 2015.

III. Noncompliance: AML explains that the noncompliance occurs when the door locking system in the subject vehicles is double-locked causing the interior operating means for unlocking the door locking mechanism to become disengaged and therefore does not meet the requirements as specified in paragraph S4.3 of FMVSS No. 206.

IV. Rule Text: Paragraph S4.3 of FMVSS No. 206 requires in pertinent part:

S4.3 Door Locks. Each door shall be equipped with at least one locking device which, when engaged, shall prevent operation of the exterior door handle or other exterior latch release control and which has an operating means and a lock release/engagement device located within the interior of the vehicle.

S4.3.1 Rear side doors. Each rear side door shall be equipped with at least one locking device which has a lock release/engagement mechanism located within the interior of the vehicle and readily accessible to the driver of the vehicle or an occupant seated adjacent to the door, and which, when engaged, prevents operation of the interior door handle or other interior latch release control and requires separate actions to unlock the door and operate the interior door handle or other interior latch release control.

S4.3.2 Back doors. Each back door equipped with an interior door handle or other interior latch release control, shall be equipped with at least one locking device that meets the requirements of S4.3.1. . . .

V. Summary of AML's Petition: AML described the subject noncompliance and stated its belief that the noncompliance is inconsequential to motor vehicle safety for the following reasons:

(a) AML stated that the subject vehicles can only be double-locked by using the key fob (which also serves as the ignition key) and that if the vehicle is double-locked from the inside, the driver and or passenger will be able to disengage the double-lock by using the key fob. AML believes that as a result, the double-locking mechanism could not cause a situation in which a vehicle is double-locked from the inside by the driver and a crash disables the driver, leaving the passenger(s) locked inside.

(b) AML stated that the risks of children being locked in the vehicle by means of the double-locking mechanism, does not pose an unacceptable risk to motor vehicle safety. AML believes that compared to other motor vehicles, AML's vehicles are rarely used to transport children. With the exception of the Rapide and Rapide S models, all Aston Martin vehicles are two-door sports cars.

Moreover, AML states that the double-locking mechanism in the subject vehicles poses no greater risk to children than the child safety locks expressly found to be permitted by FMVSS No. 206.

(c) AML stated its belief that there is little risk that any adults will be locked in its vehicles.

(d) AML stated that in the event a driver were to inadvertently lock a passenger in one of the subject vehicles, the passenger would be able to sound the horn, which would remain functional, allowing the passenger to alert the driver and passers-by.

(e) AML also stated that many of the subject vehicles have motion sensors that would detect the presence of someone in the vehicle as soon as that person moved, and an alarm would sound, which is audible outside the vehicle. Thus, deterring inadvertent lock-ins of both adults and children and would alert passers-by of any passengers locked in the subject vehicles.

(f) AML stated its belief that if an adult were locked in a vehicle, he or she could alert passers-by and would probably be able to contact the driver via mobile communication devices that, in fact, are ubiquitous today and certainly are very likely to be in the possession of the average AML vehicle passenger.

AML also stated that they have not received any complaints regarding the subject noncompliance.

AML additionally informed NHTSA that they have corrected the noncompliance in vehicles manufactured from production date December 9, 2015 and will correct the noncompliance in any unsold noncompliant vehicles prior to sale.

In summation, AML believes that the described noncompliances are inconsequential to motor vehicle safety, and that its petition, to exempt AML from providing notification of the noncompliances as required by 49 U.S.C. 30118 and remedying the noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that AML no longer controlled at the time it determined that the noncompliance existed. However, any decision on this petition does not relieve vehicle distributors and dealers of the prohibitions on the sale, offer for sale, or introduction or delivery for introduction into interstate commerce of the noncompliant vehicles under their control after AML notified them that the subject noncompliance existed.

Authority: 49 U.S.C. 30118, 30120: delegations of authority at 49 CFR 1.95 and 501.8.

Jeffrey M. Giuseppe,
Director, Office of Vehicle Safety Compliance.

[FR Doc. 2016-03176 Filed 2-16-16; 8:45 am]

BILLING CODE 4910-59-P